DEPARTMENT OF COMMERCE

International Trade Administration

[A-823-805]

Notice of Extension of Time Limits for the Preliminary Results of Administrative Review of the Suspension Agreement on Silicomanganese From Ukraine

AGENCY: Import Administration, International Trade Administration, Department of Commerce.

ACTION: Notice of extension of time limits for the preliminary results of administrative review of the suspension agreement on silicomanganese from Ukraine.

SUMMARY: The Department of Commerce (“the Department”) is extending the time limits for the preliminary results of the administrative review on the suspension agreement on silicomanganese from Ukraine.

EFFECTIVE DATE: August 4, 2000.

FOR FURTHER INFORMATION CONTACT: Carrie Blozy or Rick Johnson; Import Administration, International Trade Administration, U.S. Department of Commerce, 14th and Constitution Avenue, NW., Washington DC 20230; telephone: (202) 482-0165 or (202) 482-3818, respectively.

Extension of Preliminary Results

The Department published its notice of initiation of this review in the Federal Register on December 21, 1999 (64 FR 72644). Because it is not practicable to issue the preliminary results of review by the current deadline of August 1, 2000, the Department is extending the time limits for the preliminary results of the aforementioned review 120 days, to November 29, 2000, in accordance with section 751(a)(3)(A) of the Tariff Act of 1930 (“the Act”), as amended by the Uruguay Round Agreements Act of 1994 (for a further discussion, see the August 1, 2000 Decision Memorandum from Edward C. Yang to Richard O. Weible: Request to Extend Preliminary Results in the Review of the Antidumping Duty Suspension Agreement on Silicomanganese from Ukraine).

This extension of time limits is in accordance with section 751(a)(3)(A) of the Act.

Dated: July 31, 2000.
Richard O. Weible,
Acting Deputy Assistant Secretary, AD/CVD Enforcement Group III.

[FR Doc. 00-19823 Filed 8-3-00; 8:45 am]

BILLING CODE 3510-DS-P